DEPARTMENT OF THE TREASURY

Office of Foreign Assets Control

Supplemental Identification Information for 1 Individual Designated Pursuant to Executive Order 13441

AGENCY: Office of Foreign Assets Control, Treasury.

ACTION: Notice.

SUMMARY: The Treasury Department's Office of Foreign Assets Control (“OFAC”) is publishing supplemental information for the name of 1 individual whose property and interests in property are blocked pursuant to Executive Order 13441 of August 1, 2007, “Blocking Property of Persons Undermining the Sovereignty of Lebanon or Its Democratic Processes and Institutions.”

DATES: The publishing of updated identification information by the Director of OFAC of the 1 individual in this notice, pursuant to Executive Order 13441, is effective on December 17, 2012.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (www.treas.gov/ofac) or via facsimile through a 24-hour fax-on-demand service, tel.: 202/622-0077.

Background

On August 1, 2007, the President issued Executive Order 13441 (the “Order”) pursuant to the International Emergency Economic Powers Act, 50 U.S.C. 1701 et seq., the National Emergencies Act, 50 U.S.C. 1601 et seq., and section 301 of title 3, United States Code. In the Order, the President declared a national emergency to address the threat posed by the actions of certain persons to undermine Lebanon's legitimate and democratically elected government or democratic institutions, to contribute to the deliberate breakdown in the rule of law in Lebanon, including through politically motivated violence and intimidation, to reassert Syrian control or contribute to Syrian interference in Lebanon, or to infringe upon or undermine Lebanese sovereignty.

Section 1 of the Order blocks, with certain exceptions, all property and interests in property that are in the United States, that hereafter come within the United States, or that are or hereafter come within the possession or control of United States persons, including any overseas branch, of the following persons: persons who are determined by the Secretary of the Treasury, in consultation with the Secretary of State, (1) To have taken, or to pose a significant risk of taking, actions, including acts of violence, that have the purpose or effect of undermining Lebanon's democratic processes or institutions, contributing to the breakdown of the rule of law in Lebanon, supporting the reassertion of Syrian control or otherwise contributing to Syrian interference in Lebanon, or infringing upon or undermining Lebanese sovereignty; (2) to have materially assisted, sponsored, or provided financial, material, or technological support for, or goods or services in support of, such actions, including acts of violence, or any person whose property and interests in property are blocked pursuant to the Order; (3) to be a spouse or dependent child of any person whose property and interests in property are blocked pursuant to the Order; or (4) to be owned or controlled by, or acting or purporting to act for or on behalf of, directly or indirectly, any person whose property or interests in property are blocked pursuant to the Order.

On December 17, 2012 the Director of OFAC, in consultation with the Departments of State, and other relevant agencies, supplemented the identification information for 1 individual whose property and interests in property are blocked pursuant to Executive Order 13441.

The supplementation identification information for the individual is as follows:

Individual

1. SAMAHA, MICHEL (a.k.a. SAMAHAH, Mishal Fuad; a.k.a. SAMAHAH, Saadah Al-Naib Mishal Fuad); DOB 09 Sep 1948; POB Jouar, Lebanon; nationality Lebanon; alt. nationality Canada; Passport 7012003 (Lebanon); alt. Passport PE385243 (Canada) (individual) [SDGT] [LEBANON].

Dated: December 17, 2012.
Adam J. Szubin,
Director, Office of Foreign Assets Control,

[FR Doc. 2012-30823 Filed 12-20-12; 8:45 am]

BILLING CODE 4810-AL-P